DEPARTMENT OF ENERGY

10 CFR Part 216

48 CFR Parts 911 and 952

RIN 1991-AB69

Defense Priorities and Allocations System

AGENCY: Department of Energy.

ACTION: Notice of proposed rulemaking.

SUMMARY: This notice of proposed rulemaking (NOPR) amends Department of Energy (DOE) regulations at 10 CFR part 216 which implement DOE's delegated authority under section 101(c) of the Defense Production Actof 1950 (DPA). Section 101(c) of the DPA provides authority to the President of the United States (President) to require the allocation of, or priority performance under contracts or orders relating to, materials and equipment, services, or facilities, in order to maximize domestic energy supplies, if the President makes certain findings. The President's authority under section 101(c) was delegated to the Secretary of Commerce and the Secretary of Energy. The rulemaking would make a number of changes to part 216 to reflect a 1991 amendment of the DPA which broadens the scope of authority in section 101(c). Because DOE does not expect to receive any significant adverse comments, this regulatory action is also being issued as a direct final rule in today's issue of the Federal Register.

DATES: Public comments on the amendment proposed herein will be accepted until March 31, 2008.

ADDRESSES: This notice of proposed rulemaking is available and comments may be submitted online at http://www.Regulations.gov. Comments may be submitted by e-mail to Mike.Soboroff@hq.doe.gov. Comments may be mailed to: Mike Soboroff, U.S. Department of Energy, Office of Electricity and Energy Assurance, OE-30, 1000 Independence Avenue, SW., Washington, DC 20585. Comments by e-mail are encouraged.

FOR FURTHER INFORMATION CONTACT: Mike Soboroff at (202) 586-4936 or via e-mail at Mike.Soboroff@hq.doe.gov.

SUPPLEMENTARY INFORMATION: This NOPR proposes to amend DOE regulations at 10 CFR part 216, which implement DOE's delegated authority under section 101(c) of the DPA. Section 101(c) provides authority to require the allocation of, or priority performance under contracts or orders relating to, materials and equipment, services, or facilities, in order to maximize domestic energy supplies, if DOE and the Department of Commerce make certain findings. The NOPR would make a number of technical changes to part 216 regulations to reflect a 1991 amendment, which broadens the scope of authority in section 101(c), and Executive Order 12919, (June 3, 1994). The NOPR also proposes conforming changes in the Department of Energy Acquisition Regulation at 48 CFR parts 911 and 952.

Today, DOE is also publishing, elsewhere in this issue of the Federal Register, a direct final rule that makes changes to the DOE regulations regarding materials allocation and priority performance under contracts or orders to maximize domestic energy supplies. The amendments in the direct final rule are identical to the amendments that are being proposed in this NOPR. As explained in the preamble of the direct final rule, DOE considers these amendments to be non-controversial and unlikely to generate any significant adverse comments. If no significant adverse comments are received by DOE on the amendments, the direct final rule will become effective on the date specified in that rule, and there will be no further action on this proposal. If significant adverse comments are timely received on the direct final rule, the direct final rule will be withdrawn. The public comments will then be addressed in a subsequent final rule based on the rule proposed in this NOPR. Because DOE will not institute a second comment period on this proposed rule, any party interested in commenting should do so during this comment period.

For further supplemental information, the detailed rationale, and the rule amendment, see the information provided in the direct final rule in this issue of the Federal Register.

List of Subjects

10 CFR Part 216

Energy, Government contracts, Reporting and recordkeeping requirements, Strategic and critical materials.

48 CFR Part 911

Government procurement.

48 CFR Part 952

Government procurement, Reporting and recordkeeping requirements.

Issued in Washington, DC on February 20, 2008.
Edward R. Simpson,
Director, Office of Procurement and Assistance Management, Department of Energy.
William N. Bryan,
Deputy Assistant Secretary, Infrastructure Security and Energy Restoration, Department of Energy.
David O. Boyd,
Director, Office of Acquisition and Supply Management, National Nuclear Security Administration.

[FR Doc. E8-3776 Filed 2-28-08; 8:45 am]

BILLING CODE 6450-01-P